DEPARTMENT OF ENERGY

[OE Docket No. EA-338-A]

Application to Export Electric Energy; Shell Energy North America (US), L.P.

AGENCY: Office of Electricity Delivery and Energy Reliability, DOE.

ACTION: Notice of application.

SUMMARY: Shell Energy North America (US), L.P. (Shell Energy) has applied to renew its authority to transmit electric energy from the United States to Mexico pursuant to section 202(e) of the Federal Power Act.

DATES: Comments, protests, or motions to intervene must be submitted on or before April 8, 2013.

ADDRESSES: Comments, protests, or motions to intervene should be addressed to: Lamont Jackson, Office of Electricity Delivery and Energy Reliability, Mail Code: OE-20, U.S. Department of Energy, 1000 Independence Avenue SW., Washington, DC 20585-0350. Because of delays in handling conventional mail, it is recommended that documents be transmitted by overnight mail, by electronic mail to Lamont.Jackson@hq.doe.gov, or by facsimile to 202-586-8008.

FOR FURTHER INFORMATION CONTACT: Lamont Jackson (Program Office) at 202-586-0808, or by email to Lamont.Jackson@hq.doe.gov.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the Federal Power Act (16 U.S.C. 824a(e)).

On May 5, 2008, DOE issued Order No. EA-338, which authorized Shell Energy to transmit electric energy from the United States to Mexico as a power marketer for a five-year term using existing international transmission facilities. That authority expires on May 5, 2013. On February 5, 2013, Shell Energy filed an application with DOE for renewal of the export authority contained in Order No. EA-338 for an additional five-year term.

In its application, Shell Energy states that it does not own any electric generating or transmission facilities nor does the applicant have a franchised service area. The electric energy that Shell Energy proposes to export to Mexico would be surplus energy purchased from electric utilities, Federal power marketing agencies, and other entities within the United States. The existing international transmission facilities to be utilized by Shell Energy have previously been authorized by Presidential permits issued pursuant to Executive Order 10485, as amended, and are appropriate for open access transmission by third parties.

Procedural Matters: Any person desiring to be heard in this proceeding should file a comment or protest to the application at the address provided above. Protests should be filed in accordance with Rule 211 of the Federal Energy Regulatory Commission's (FERC) Rules of Practice and Procedures (18 CFR 385.211). Any person desiring to become a party to these proceedings should file a motion to intervene at the above address in accordance with FERC Rule 214 (18 CFR 385.214). Five copies of such comments, protests, or motions to intervene should be sent to the address provided above on or before the date listed above.

Comments on the Shell Energy application to export electric energy to Mexico should be clearly marked with OE Docket No. EA-338-A. An additional copy is to be provided directly to both Robert Reilley and Jane Barnett, Shell Energy North America (US), L.P., 1000 Main, Level 12, Houston, TX 77002. A final decision will be made on this application after the environmental impacts have been evaluated pursuant to DOE's National Environmental Policy Act Implementing Procedures (10 CFR part 1021) and after a determination is made by DOE that the proposed action will not have an adverse impact on the sufficiency of supply or reliability of the U.S. electric power supply system.

Copies of this application will be made available, upon request, for public inspection and copying at the address provided above, by accessing the program Web site at http://energy.gov/node/11845, or by emailing Angela Troy at Angela.Troy@hq.doe.gov.

Issued in Washington, DC, on February 28, 2013.
Jon Worthington,
Deputy Assistant Secretary, Office of Electricity Delivery and Energy Reliability.

[FR Doc. 2013-05362 Filed 3-6-13; 8:45 am]

BILLING CODE 6450-01-P